DEPARTMENT OF THE TREASURY

Office of Foreign Assets Control

31 CFR Parts 548 and 587

Publication of Belarus Sanctions Regulations and Russian Harmful Foreign Activities Sanctions Regulations Web General License 101

AGENCY: Office of Foreign Assets Control, Treasury.

ACTION: Publication of a web general license.

SUMMARY: The Department of the Treasury's Office of Foreign Assets Control (OFAC) is publishing one general license (GL) issued pursuant to the Belarus Sanctions Regulations and Russian Harmful Foreign Activities Sanctions Regulations: GL 101 which was previously made available on OFAC's website.

DATES: GL 101 was issued on August 9, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On August 9, 2024, OFAC issued GL 101 to authorize certain transactions otherwise prohibited by the Belarus Sanctions Regulations, 31 CFR part 548, and the Russian Harmful Foreign Activities Sanctions Regulations, 31 CFR part 587. The GL was made available on OFAC's website (https://ofac.treasury.gov) when it was issued and has an expiration date of September 10, 2024. The text of this GLs is provided below.

OFFICE OF FOREIGN ASSETS CONTROL

Belarus Sanctions Regulations

31 CFR Part 548

Russian Harmful Foreign Activities Sanctions Regulations

31 CFR Part 587

GENERAL LICENSE NO. 101

Authorizing Civil Aviation Safety and Wind Down Transactions Involving Certain Entities Blocked on August 9, 2024

(a) Except as provided in paragraph (c) of this general license, all transactions prohibited by the Belarus Sanctions Regulations, 31 CFR part 548 (BSR), and Executive Order (E.O.) 14024, that are ordinarily incident and necessary to the provision, exportation, or reexportation of goods, technology, or services to ensure the safety of civil aviation involving one or more of the following blocked entities (collectively, the “Blocked Entities”) are authorized through 12:01 a.m. eastern daylight time, September 10, 2024, provided that the goods, technology, or services that are provided, exported, or reexported are for use on aircraft operated solely for civil aviation purposes:

(1) Aviakompaniya Belkanto LLC;

(2) Aviakompaniya Rada LLC;

(3) UE RubiStar; or

(4) Any entity in which one or more of the above persons owns, directly or indirectly, individually or in the aggregate, a 50 percent or greater interest.

(b) Except as provided in paragraph (c) of this general license, all transactions prohibited by the BSR or E.O. 14024 that are ordinarily incident and necessary to the wind down of any transaction involving any of the Blocked Entities are authorized through 12:01 a.m. eastern daylight time, September 10, 2024, provided that any payment to a Blocked Entity is made into a blocked account in accordance with the BSR and the Russian Harmful Foreign Activities Sanctions Regulations, 31 CFR part 587 (RuHSR).

(c) This general license does not authorize:

(1) Any transactions otherwise prohibited by the BSR or the RuHSR, including transactions involving any person blocked pursuant to the BSR or the RuHSR other than the Blocked Entities, unless separately authorized;

(2) Any transactions prohibited by Directive 2 under E.O. 14024, Prohibitions Related to Correspondent or Payable-Through Accounts and Processing of Transactions Involving Certain Foreign Financial Institutions; or

(3) Any transactions prohibited by Directive 4 under E.O. 14024, Prohibitions Related to Transactions Involving the Central Bank of the Russian Federation, the National Wealth Fund of the Russian Federation, and the Ministry of Finance of the Russian Federation.

Note to General License 101. Nothing in this general license relieves any person from compliance with any other Federal laws or requirements of other Federal agencies, including export, reexport, and transfer (in-country) licensing requirements maintained by the Department of Commerce's Bureau of Industry and Security under the Export Administration Regulations, 15 CFR parts 730-774.

Lawrence M. Scheinert

Acting Deputy Director, Office of Foreign Assets Control.

Dated: August 9, 2024

Lisa M. Palluconi,
Acting Director, Office of Foreign Assets Control.

[FR Doc. 2024-19919 Filed 9-5-24; 8:45 am]

BILLING CODE 4810-AL-P